DEPARTMENT OF HEALTH AND HUMAN SERVICES

Administration for Children and Families

Proposed Information Collection Activity; Comment Request

Title: Permanency Innovations Initiative Evaluation: Phase 3.

OMB No.: 0970-0408.

Description: The Administration for Children and Families (ACF), U.S. Department of Health and Human Services (HHS) intends to collect data for an evaluation of the Permanency Innovations Initiative (PII). This 5-year initiative, funded by the Children's Bureau (CB) within ACF, is intended to build the evidence base for innovative interventions that enhance well-being and improve permanency outcomes for particular groups of children and youth who are at risk for long-term foster care and who experience the most serious barriers to timely permanency.

Data collection for the PII evaluation includes a number of components being launched at different points in time. Phase 1 (approved August 2012, OMB# 0970-0408) included data collection for a cross-site implementation evaluation and site-specific evaluations of two PII grantees (Washoe County, Nevada, and the State of Kansas). Phase 2 (approved August 2013) included data collection for two more PII grantees (Illinois DCFS and one of two interventions offered by the Los Angeles Gay and Lesbian Center's Recognize Intervene Support Empower [RISE] project).

Phase 3 will include data collection for evaluations of two PII grantee interventions and two additional cross-site PII studies. The two grantee interventions are the California Department of Social Services' California Partnership for Permanency (CAPP) project and a second RISE intervention, the Care Coordination Team (CCT). The two PII cross-site studies are a cost study and an administrative data study. The administrative data study does not impose any new data collection requirements and will use data currently reported by states through the Adoption and Foster Care Analysis and Reporting System (AFCARS) (OMB Control # 0980-0267) and the National Child Abuse and Neglect Data System (NCANDS) (OMB Control # 0980-0229), as well as data maintained in State Automated Child Welfare Information Systems (SACWIS).

Respondents: Youth, foster parents, permanency resources, biological parents, legal guardians, team facilitators, caseworkers, supervisors, and state agency workers.

Annual Burden Estimates
Instrument | Total number of respondents | Annual number of respondents | Number of responses per respondent | Average burden hours per response | Total annual burden hours
CAPP:
Parent/Guardian Interview | 1791 | 597 | 1 | 0.5 | 299
Caseworker Data Extraction | 894 | 298 | 1 | 0.5 | 149
CAPP annual burden hours |  |  |  |  | 448
RISE CCT:
Youth Interview | 120 | 40 | 2 | 1.3 | 104
Qualitative Youth Interview | 60 | 20 | 1 | 1.2 | 24
Interview with Permanency Resource | 120 | 40 | 2 | 1.0 | 80
Interview with Current Caregiver | 120 | 40 | 2 | 0.6 | 48
Current Caregiver Qualitative Interview | 60 | 20 | 1 | 1.0 | 20
CCT Facilitators Emotional Permanency Pretest | 12 | 4 | 5 | 0.2 | 4
CCT Facilitators Emotional Permanency Posttest | 12 | 4 | 5 | 0.2 | 4
CAFAS pretest | 12 | 4 | 5 | 1.0 | 20
Caseworker discussion for CAFAS pretest completion | 60 | 20 | 1 | 0.5 | 10
CAFAS posttest | 12 | 4 | 5 | 1.0 | 20
Caseworker discussion for CAFAS posttest completion | 60 | 20 | 1 | 0.5 | 10
CCT Facilitators Permanent Connections Inventory Pretest | 12 | 4 | 1 | 0.2 | 1
CCT Facilitators Permanent Connections Inventory Posttest | 12 | 4 | 1 | 0.2 | 1
RISE CCT annual burden hours |  |  |  |  | 346
Cost Study:
Cost Focus Group | 27 | 9 | 1 | 7 | 63
Weekly Casework Activity Log | 369 | 123 | 52 | 0.4 | 2,558
Weekly Supervision Activity Log | 117 | 39 | 52 | 0.4 | 811
Monthly Management/Administration Log | 90 | 30 | 12 | 0.5 | 180
Cost Study annual burden hours |  |  |  |  | 3,612
Administrative Data Study:
Data file submission | 15 | 5 | 4 | 0.6 | 12
Administrative Data Study annual burden hours |  |  |  |  | 12
OVERALL ANNUAL BURDEN HOURS |  |  |  |  | 4,418

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hanmer,
Reports Clearance Officer.

[FR Doc. 2013-22310 Filed 9-12-13; 8:45 am]

BILLING CODE 4184-01-P